ELECTION ASSISTANCE COMMISSION

Request for Comment: Election Supporting Technology Evaluation Program Manual

AGENCY: U.S. Election Assistance Commission.

ACTION: Notice, request for comment.

SUMMARY: The U.S. Election Assistance Commission (EAC) is publishing the Election Supporting Technology Evaluation Program (ESTEP) Manual v1.0 for public comment. The intent of this Manual is to assist in the facilitation of Program activities and to serve as a guide for manufacturers and voting system test laboratories that select to participate in the Program. Participation in this program is voluntary.

DATES: Comments must be received by 5 p.m. eastern on Thursday, December 14, 2023.

ADDRESSES: To view the Manual v1.0, see: https://www.eac.gov/voting-equipment/Election_Supporting_Technology_Evaluation_Program. Comments on the proposed ESTEP Manual v1.0 should be submitted electronically via https://www.regulations.gov (docket IDs: EAC-2023-0004). Written comments on the proposed document can also be sent to the U.S. Election Assistance Commission, 633 3rd Street NW, Suite 200, Washington, DC 20001, Attn: Election Supporting Technology Evaluation Program.

FOR FURTHER INFORMATION CONTACT: Elizabeth Beatrice, Election Technology Specialist, Election Supporting Technology Evaluation Program, Washington, DC, (202)-748-2298. Email: estep@eac.gov.

SUPPLEMENTARY INFORMATION: Purpose: Under the authority of the Help America Vote Act of 2002 (HAVA), the U.S. Election Assistance Commission (EAC) developed the Election Supporting Technology Evaluation Program (ESTEP). This Program establishes a protocol for testing critical election-supporting technologies to ensure their conformance with baseline Federal standards for security and accessibility. While participation in this Program is voluntary, EAC certification benefits the public and wider election technology field by supporting State and local election officials, increasing quality control and quality assurance of election-supporting technologies, and increasing voter confidence in the use of these systems.

This Manual establishes the minimum requirements for participation in this Program. If election-supporting technology manufacturers decide to participate, then they must conform to the Program Manual's procedural requirements.

Public Comments: Please note that comments submitted in response to this Notice are public record. Before including any detailed personal information, you should be aware that your submitted comments, including your personal information, will be available for public review.

Respondents: Election Supporting Technology Manufacturers, Voting System Test Laboratories, State and Local Election Officials.

Camden Kelliher,
Deputy General Counsel, U.S. Election Assistance Commission.

[FR Doc. 2023-25058 Filed 11-13-23; 8:45 am]

BILLING CODE 4810-71-P